DEPARTMENT OF AGRICULTURE

Submission for OMB Review; Comment Request

June 7, 2022.

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding this information collection received by July 13, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Research Service

Title: ARS Animal Health National Program Assessment Survey Form.

OMB Control Number: 0518-0042.

Summary of Collection: The Agricultural Research Service (ARS) covers the span of nutrition, food safety and quality, animal and plant production and protection, and natural resources and sustainable agricultural systems and it organized into seventeen National Programs addressing specific areas of this research. Research in the Agency is conducted through coordinated National Programs on a five-year cycle. The cycle ensures that ARS research meets OMB's Research and Development Investment Criteria and other external requirements, including the Research Title of the Farm Bill, and the Government Performance and Results Act of 1993 (GPRA). These National Programs serve to bring coordination, communication, and empowerment to approximately 660 research projects carried out by ARS and focus on the relevance, impact, and quality of ARS research. The requested voluntary electronic evaluation survey will give the beneficiaries of ARS research the opportunity to provide input on the impact of several ARS National Programs.

Need and Use of the Information: The purpose of the survey is to assess the impact of the research in the current National Program cycle and ensure relevance for the next cycle. The input provided through the completion of the evaluation form will be shared with customers, partners, and stakeholders as part of each National Program's assessment process. The survey is also used to engage stakeholders and partners and seek their input on research priorities for the next five-year national program research cycle. Failure to collect input from our customers on the impact of our research program would significantly inhibit the relevance and credibility of the research conducted at ARS.

Description of Respondents: Individuals or households; Business or other for-profit; Not-for-profit institutions; State, Local or Tribal Government.

Number of Respondents: 600.

Frequency of Responses: Reporting: Other (5 years).

Total Burden Hours: 104.

Ruth Brown,
Departmental Information Collection Clearance Officer.

[FR Doc. 2022-12595 Filed 6-10-22; 8:45 am]

BILLING CODE 3410-03-P